DEPARTMENT OF THE TREASURY

Submission for OMB Review; Comment Request

July 6, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 13, 2004, to be assured of consideration.

Internal Revenue Service (IRS)

OMB Number: 1545-0099.

Form Number: IRS Form 1065, Schedule D, and Schedule K-1.

Type of Review: Revision.

Title: Form 1965: U.S. Return of Partnership Income; Schedule D: Capital Gains and Losses; and Schedule K-1: Partner's Share of Income, Credits, Deductions, etc.

Description: Internal Revenue Code (IRC) section 6031 requires partnerships to file returns that show gross income items, allowable deductions, partners' names, addresses, and distribution shares, and other information. This information is used to verify correct reporting of partnership items and for general statistics.

Respondents: Business or other for-profit, Individuals or households.

Estimated Number of Respondents/Recordkeepers: 2,376,800.

Estimated Burden Hours Respondent/Recordkeeper:

Form | Recordkeeping | Learning about the law or the form | Preparing the form | Copying, assembling, and sending the form to the IRS
1065 | 42 hr., 27 min | 25 hr., 21 min | 44 hr., 3 min | 4 hr., 49 min.
Sch. D (Form 1065) | 6 hr., 56 min | 2 hr., 34 min | 2 hr., 48 min |
Sch. K-1 (Form 1065) | 20 hr., 34 min | 6 hr., 9 min | 6 hr., 46 min |

Frequency of response: Annually.

Estimated Total Reporting/Recordkeeping Burden: 786,658,611 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-15931 Filed 7-13-04; 8:45 am]

BILLING CODE 4830-01-P